DEPARTMENT OF COMMERCE

National Institute of Standards and Technology; Notice

AGENCY: National Institute of Standards and Technology Commerce.

ACTION: Notice of government-owned inventions available for licensing.

SUMMARY: The inventions listed below are owned in whole or in part by the U.S. Government, as represented by the Department of Commerce. The Department of Commerce's interest in the inventions is available for exclusive or non-exclusive licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Building 820, Room 213, Gaithersburg, MD 20899; Fax 301-869-2751. Any request for information should include the NIST Docket number and title for the relevant invention as indicated below.

SUPPLEMENTARY INFORMATION: NIST may enter into a Cooperative Research and Development Agreement (“CRADA”) with the licensee to perform further research on the inventions for purposes of commercialization. The inventions available for licensing are:

NIST Docket Number: 97-022US.

Title: Immobilized Biological Membranes.

Abstract: The invention is jointly owned by the U.S. Government, as represented by the Department of Commerce, and Health Research, Inc. The Department of Commerce's ownership interest is available for licensing. A composition comprising an immobilized biological membrane is provided. The functional immobilized biological membrane consists of a support structure, a metal layered onto a surface of the support structure, and alkanethiol monolayer assembled onto the metal, and a biological membrane deposited on the alkanethiol monolayer. Also provided is a method of producing the immobilized biological membrane, wherein the method involves contacting an alkanethiol with a metal surface of a support structure in forming an alkanethiol monolayer assembled onto the metal, and depositing a biological membrane onto the alkanethiol monolayer such that the biological membrane becomes associated with the alkanethiol monolayer. Uses of the biological membrane include as a sensing indicator in a biosensor, as an adsorbent in a chromatography system, and as a coating for medical devices.

NIST Docket Number: 95-051US.

Title: Diode Laser Vibrometer Using Feedback Induced Frequency Modulation.

Abstract: The invention is jointly owned by the U.S. Government, as represented by the Department of Commerce, and the University of Colorado. The Department of Commerce's ownership interest is available for licensing. A diode laser vibrometer has been developed which is an inexpensive, sensitive sensor for measuring target position, velocity and vibration based on optical feedback-induced fluctuations in the operating frequency of a diode laser. The sensor comprises a diode laser, an optical frequency discriminator to measure the laser operating frequency, and an electronic signal analyzer to obtain the modulation frequency of the laser operating frequency. This invention further includes two calibration mechanisms for vibration amplitude measurement. In a first calibration mechanism, the diode laser is mounted on a laser vibrator, which vibrates the laser relative to the target. In a second calibration mechanism, a frequency modulator is coupled to the diode laser to modulate the operating frequency.

NIST Docket Number: 98-023US.

Title: An Apparatus Available for Health Assessment and Diagnostics of Conductive Materials.

Abstract: The invention is jointly owned by the U.S. Government, as represented by the Department of Commerce, and Colorado School of Mines. The Department of Commerce's ownership interest is available for licensing. The invention is a device for diagnosing the integrity of conductive materials (e.g. copper ground riser and transmission lines). The device integrates advances in electro-magnetic acoustic technology (EMAT) with artificial neural networks. The described advances enable field engineers and maintenance crews to loosely clamp the device to a bare section of conductor, transmit and receive a VHF acoustic signal, analyze the signal and determine the existence and location of any conductivity losses.

NIST Docket Number: 98-030US.

Title: Process for the Removal of Carbonyl Sulfide from Liquid Petroleum Gas.

Abstract: This invention is jointly owned by the U.S. Government, as represented by the Department of Commerce, and the University of Colorado. Liquefied petroleum gas (LPG) is an important fuel and chemical feedstock. It is generally derived from two primary sources: the refining of crude oil, and as a by-product of the production of natural gas. The primary constituent of commercial LPG is propane, although other organic constituents are present as well. Many sources of LPG contain organic sulfur compounds. Some of these, such as hydrogen sulfide, must be removed (to a level of 5 ppm or lower) to make the LPG merchantable. Other sulfur compounds such as carbonyl sulfide (COS) were once considered to be relatively innocuous, but are now recognized as being problematic for a variety of reasons. This invention provides a method for the removal of COS from LPG.

NIST Docket Number: 93-021US.

Title: Optical Cooling of Solids.

Abstract: A device and method for laser cooling of a solid to extremely low temperatures is disclosed, the device including an active cooling structure having a high purity surface passivated direct band gap semiconductor crystal of less than about 3 microns thick and a transparent hemispherical body in optical contact with the crystal. The crystal is itself cooled when illuminated with a laser beam tuned to a frequency no greater than the band gap edge frequency of the crystal. Cooling is caused by emission of photons of higher energy than photons entering the crystal, the additional energy being accounted for by a process of absorption of thermal phonons from the crystal lattice.

Dated: November 1, 2001.
Karen H. Brown,
Deputy Director.

[FR Doc. 01-28337 Filed 11-13-01; 8:45 am]

BILLING CODE 3510-13-P